DEPARTMENT OF HOMELAND SECURITY

U.S. Citizenship and Immigration Services

[CIS No. 2782-24; DHS Docket No. USCIS-2024-0013]

RIN 1615-ZC10

Implementation of Employment Authorization for Individuals Covered by Deferred Enforced Departure for Lebanon

AGENCY: U.S. Citizenship and Immigration Services (USCIS), Department of Homeland Security (DHS).

ACTION: Notice of Employment Authorization for Individuals Covered by Deferred Enforced Departure (DED).

SUMMARY: On July 26, 2024, President Joseph Biden issued a memorandum to the Secretary of State and the Secretary of Homeland Security (Secretary) determining that it was in the foreign policy interest of the United States to defer for 18 months through January 25, 2026, the removal of certain Lebanese nationals present in the United States and to provide them with employment authorization documentation. The memorandum directed the Secretary to make provision for immediate allowance of employment authorization for such individuals. This notice provides information about Deferred Enforced Departure (DED) for Lebanese nationals and provides information on how eligible individuals may apply for DED-based Employment Authorization Documents (EADs) with USCIS, as well as for travel authorization.

DATES: DED for eligible Lebanese noncitizens covered by this notice began on July 26, 2024 and ends on January 25, 2026.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For further information on DED, including additional information on eligibility, please visit the USCIS DED web page at https://www.uscis.gov/humanitarian/deferred-enforced-departure. You can find specific information about DED for Lebanon by selecting “DED Covered Country—Lebanon” from the menu on the left of the DED web page.

• If you have additional questions about DED, please visit https://www.uscis.gov/tools. Our online virtual assistant, Emma, can answer many of your questions and point you to additional information on our website. If you are unable to find your answers there, you may also call our USCIS Contact Center at 800-375-5283 (TTY 800-767-1833).

• Applicants seeking information about the status of their individual Form I-765, Application for Employment Authorization, or Form I-131, Application for Travel Documents, Parole Documents, and Arrival/Departure Records, may check Case Status Online, available on the USCIS website at https://www.uscis.gov, or visit the USCIS Contact Center at https://www.uscis.gov/contactcenter.

• You can also find more information at local USCIS offices, listed on the USCIS website at https://www.uscis.gov/about-us/find-a-uscis-office, after this notice is published.

SUPPLEMENTARY INFORMATION:

Table of Abbreviations

CFR—Code of Federal Regulations

DED—Deferred Enforced Departure

DHS—U.S. Department of Homeland Security

DoS—Department of State

EAD—Employment Authorization Document

FNC—Final Non-confirmation

Form I-131—Application for Travel Documents, Parole Documents, and Arrival/Departure Records

Form I-765—Application for Employment Authorization

Form I-797—Notice of Action

Form I-9—Employment Eligibility Verification

Form I-912—Request for Fee Waiver

Form I-94—Arrival/Departure Record

FR—Federal Register

Government—U.S. Government

IER—U.S. Department of Justice, Civil Rights Division, Immigrant and Employee Rights Section

INA—Immigration and Nationality Act

SAVE—USCIS Systematic Alien Verification for Entitlements Program

Secretary—Secretary of Homeland Security

TTY—Text Telephone

USCIS—U.S. Citizenship and Immigration Services

U.S.C.—United States Code

Purpose of This Action

Under the President's constitutional authority to conduct the foreign relations of the United States, President Biden has determined that it is in the foreign policy interest of the United States to defer through January 25, 2026, the removal of certain Lebanese nationals who have resided in the United States since July 26, 2024.¹ Humanitarian conditions in southern Lebanon have significantly deteriorated leaving Lebanese civilians in danger. Through this Notice, as directed by the President, DHS is establishing procedures for certain Lebanese nationals covered by DED to apply for EADs valid through January 25, 2026. Employment authorization and the procedures for obtaining EADs in this notice apply to any of the following individuals who are not subject to any of the ineligibilities described in President Biden's July 26, 2024 memorandum to the secretaries of State and Homeland Security: noncitizens of the United States who are nationals of Lebanon, regardless of country of birth, who have resided in the United States since July 26, 2024. Lebanese nationals must meet all eligibility criteria, including required documentation, for DED described in this notice. Finally, this notice provides instructions for eligible Lebanese nationals in the United States on how to request advance travel authorization.

¹ See Memorandum on the Deferred Enforced Departure for Certain Lebanese Nationals, 89 FR 61341, July 26, 2024, https://www.federalregister.gov/documents/2024/07/31/2024-17006/deferred-enforced-departure-for-certain-lebanese-nationals.

What is Deferred Enforced Departure (DED)?

• DED is an administrative deferral of removal ordered by the President. The authority to extend DED arises from the President's constitutional authority to conduct the foreign relations of the United States. DED has been authorized in situations where certain groups of noncitizens may face danger if required to return to countries, or any part of such countries, experiencing political instability, conflict, or other unsafe conditions, or when there are other foreign policy reasons for allowing a designated group of noncitizens to remain in the United States temporarily.

• Although DED is not a specific immigration status and does not require Lebanese nationals to file an application with USCIS, individuals covered by DED are not subject to removal from the United States, usually for a designated period. Furthermore, the President may direct the Secretary to provide certain benefits that are authorized under the immigration laws, such as employment authorization, to noncitizens covered by the DED directive during the designated period.

• USCIS publishes a Federal Register notice to inform the covered population on how to apply for any benefits provided. See instructions for Form I-765, available on the USCIS website at https://www.uscis.gov/sites/default/files/document/forms/i-765instr.pdf.

• The eligibility requirements for individuals who are covered by DED are based on the terms of the President's memorandum regarding DED and any relevant implementing requirements established by DHS. Since DED is a directive to defer removal of an individual, rather than a specific immigration status like Temporary Protected Status, there is no DED application form required for an individual to be covered by DED. If an individual covered by DED wants to apply for an EAD, they must file Form I-765. Similarly, if an individual covered by DED want to apply for advance travel authorization, they must file Form I-131.

Ur M. Jaddou,
Director, U.S. Citizenship and Immigration Services.

Eligibility and Employment Authorization for DED

How will I know if I am eligible for employment authorization under the DED presidential memorandum for Lebanon?

Consistent with the President's July 26, 2024, DED memorandum,² the procedures for employment authorization in this notice apply to noncitizens of the United States who are nationals of Lebanon, who were present in the United States on July 26, 2024, except for those:

² Id.

• who have voluntarily returned to Lebanon after the date of the memorandum;

• who have not continuously resided in the United States since the date of the memorandum;

• who are inadmissible under section 212(a)(3) of the Immigration and Nationality Act (INA) (8 U.S.C. 1182(a)(3)) or deportable under section 237(a)(4) of the INA (8 U.S.C. 1227(a)(4));

• who have been convicted of any felony or two or more misdemeanors committed in the United States, or who meet any of the criteria set forth in section 208(b)(2)(A) of the INA (8 U.S.C. 1158(b)(2)(A));

• who are subject to extradition;

• whose presence in the United States the Secretary of Homeland Security has determined is not in the interest of the United States or presents a danger to public safety; or

• whose presence in the United States the Secretary of State has reasonable grounds to believe would have potentially serious adverse foreign policy consequences for the United States.

What will I need to file if I am covered by DED and would like to obtain an EAD?

If you are a Lebanese national covered by DED and want a DED-based EAD, you must file Form I-765. Please carefully follow the Form I-765 instructions when completing the application for an EAD. When filing Form I-765, you must:

• Indicate that you are eligible for DED by entering “(a)(11)” in response to Question 27 on Form I-765; and

• Submit the fee for Form I-765 (or request a fee waiver,³ which you may submit on Form I-912, Request for Fee Waiver). See Fee Schedule (Form G-1055).

³ For information about filing fee waiver requests including through Form I-912, Request for Fee Waiver, see https://www.uscis.gov/forms/filing-fees/additional-information-on-filing-a-fee-waiver.

Supporting Documentation

The filing instructions on Form I-765 list all the documents needed to apply. You may also find information on the initial required documents on the USCIS website at https://www.uscis.gov/i-765. If USCIS determines after reviewing your submission that it needs additional information, we will send you a request for evidence.

How will I know if I must submit my biometrics to USCIS?

If USCIS needs biometrics to produce your EAD after you apply, we will send you a biometrics services appointment notice with the time and location of your appointment. You can prepare for your biometrics appointment by visiting the Preparing for Your Biometric Services Appointment web page at https://www.uscis.gov/forms/filing-guidance/preparing-for-your-biometric-services-appointment. Be sure to bring valid photo identification to your appointment.

Where do I find the fees for DED applicants?

You can find the most current filing fees for individuals covered by DED filing Form I-765 and Form I-131 by visiting the Form G-1055, Fee Schedule at https://www.uscis.gov/g-1055. No biometrics fees are required when you file.

Where do I submit my completed DED-based Form I-765?

For a DED-based EAD, mail your completed Form I-765 and supporting documentation to the proper address in Table 1.

Table 1—Mailing Addresses
If you are . . . | Mail to . . .
Mailing your form through the U.S. Postal Service | USCIS, Attn: DED Lebanon, P.O. Box 805283, Chicago, IL 60680-5283.
Using FedEx, UPS, or DHL | USCIS, Attn: DED Lebanon (Box 805283), 131 S Dearborn Street, 3rd Floor, Chicago, IL 60603-5517.

You may file Form I-765 and Form I-131 together or separately. If you are filing multiple applications, petitions, or requests, USCIS recommends sending separate payments for each application. If you submit one payment covering all your applications and we reject one of the applications, petitions, or requests, we will need to reject all the others as well. Find more information below on filing Form I-131.

Can I file my DED-based Form I-765 electronically?

No. Electronic filing is not available to file a DED-based Form I-765.

What happens after January 25, 2026, to DED-based EADs?

This DED authorization is set to end on January 25, 2026. After that date, employers can no longer accept EADs with the Category (a)(11) and a Card Expires date of January 25, 2026. You will need to present other evidence of continued employment authorization, if any, to your employer by January 26, 2026.

Travel

Lebanese nationals covered by DED may also apply for and be granted travel authorization as a matter of discretion. You must file for travel authorization if you wish to travel outside of the United States and be eligible to reenter the United States. If USCIS grants travel authorization, it generally gives you permission to leave the United States and return during a specific period. Customs and Border Protection officers make the ultimate determination, upon the noncitizen's arrival at a United States port of entry, whether to parole the noncitizen into the United States and for what length of time. To request travel authorization, you must file Form I-131, available at https://www.uscis.gov/i-131. You may file Form I-131 together with your Form I-765 or separately. When you file Form I-131, you must:

• Select Item Number 5.D. in Part 1 on Form I-131; and

• Submit the fee for Form I-131.

If you leave the United States without first receiving travel authorization, you may no longer be eligible for DED and may not be permitted to reenter the United States. Please also be advised that if you return to Lebanon, even with advance travel authorization, you may not be permitted to resume DED in the United States since the presidential memorandum providing for DED for Lebanon excludes individuals who have voluntarily returned to Lebanon after the date of the memorandum.⁴

⁴ See Memorandum on the Deferred Enforced Departure for Certain Lebanese Nationals, 89 FR 61341, July 26, 2024, https://www.federalregister.gov/documents/2024/07/31/2024-17006/deferred-enforced-departure-for-certain-lebanese-nationals.

Mailing Information

Mail your completed Form I-131 to the proper address provided in Table 1.

Supporting Documentation

The filing instructions for Form I-131 list all the documents you need to include with your application. You may also find information on the acceptable documentation and DED eligibility on the USCIS website at https://www.uscis.gov/humanitarian/deferred-enforced-departure. If USCIS needs additional evidence, we will send you a request for evidence.

General Employment-Related Information for Individuals With DED-Based EADs and Their Employers

How can I obtain information on the status of my EAD request?

To get case status information about your DED-based EAD request, you can check Case Status Online at https://www.uscis.gov, or visit the USCIS Contact Center at https://www.uscis.gov/contactcenter. If you still need assistance, you may ask a question about your case online at https://egov.uscis.gov/e-request/Intro.do or call the USCIS Contact Center at 800-375-5283 (TTY 800-767-1833).

When I am hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three business days of hire, employees must present acceptable documents to their employers as evidence of identity and employment authorization to satisfy Form I-9 requirements.

You may present any documentation from List A (which provides evidence of both identity and employment authorization) or documentation from List B (which provides evidence of your identity) together with documentation from List C (which provides evidence of employment authorization), or you may present an acceptable receipt as described in the Form I-9 Instructions. Employers may not reject a document based on a future expiration date. You can find additional information about Form I-9 on the I-9 Central web page at https://www.uscis.gov/I-9Central. An EAD is an acceptable document under List A.

If I have an EAD based on another immigration status, can I obtain a new DED-based EAD?

Yes, if you are covered by DED, you can obtain a new DED-based EAD, even if you already have an EAD or employment authorization based on another immigration status or category. If you want to obtain a DED-based EAD valid through January 25, 2026, you must file Form I-765 and pay the associated fee (unless USCIS grants your fee waiver request).

Can my employer require that I provide any other documentation to complete Form I-9, such as evidence of my status or proof of my Lebanese citizenship?

No. When completing Form I-9, employers must accept any unexpired documentation that appears on the Form I-9 Lists of Acceptable Documents that reasonably appears to be genuine and that relates to you, or an acceptable List A, List B, or List C receipt. Employers may not request proof of Lebanese citizenship when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules listing reverification requirements. For general questions about the employment eligibility verification process, employers may call USCIS at 888-464-4218 (TTY 877-875-6028) or email USCIS at I-9Central@dhs.gov. USCIS accepts calls and emails in English, Spanish and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov or get more information online at https://www.justice.gov/ier.

Note to Employees

For general questions about the employment eligibility verification process, employees may call USCIS at 888-897-7781 (TTY 877-875-6028) or email USCIS at I-9Central@dhs.gov. USCIS accepts calls and emails in English and many other languages. Employees or applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 instructions. Employers may not require extra or additional documentation beyond what is required for Form I-9 completion. Further, employers participating in E-Verify who receive an E-Verify case result of “Tentative Non-confirmation” (mismatch) must promptly inform employees of the mismatch and give such employees an opportunity to resolve the mismatch. A mismatch means that the information entered into E-Verify from Form I-9 differs from records available to DHS.

Employers may not terminate, suspend, delay training, withhold or lower pay, or take any adverse action against an employee because of a mismatch while the case is still pending with E-Verify. A Final Non-confirmation (FNC) case result occurs if E-Verify cannot confirm an employee's employment eligibility. An employer may terminate employment based on a case result of FNC. Employment-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

If you are applying for a Federal, state, or local government benefit, you may need to provide the government agency with documents that show you are covered under DED or authorized to work based on DED or both. Check with the government agency requesting documentation about which documents the agency will accept.

Some government agencies use SAVE, https://www.uscis.gov/save, to confirm the current immigration status of applicants for public benefits and licenses. SAVE can verify that an individual is covered by DED based on an EAD with category (a)(11) or a Form I-797, Notice of Action, reflecting approval of your Form I-765 for an EAD with a DED category code of (a)(11). In most cases, SAVE provides an automated electronic response to benefit-granting agencies within seconds, but occasionally verification can be delayed. You can check the status of your SAVE verification by using CaseCheck at https://www.uscis.gov/save/save-casecheck. CaseCheck is a free service that lets you follow the progress of your SAVE verification case using your date of birth and one immigration identifier number (such as your A-Number or USCIS number) or Verification Case Number. If an agency has denied your application based solely or in part on a SAVE response, the agency must allow you to appeal the decision in accordance with the agency's procedures. If the agency has received and acted on or will act on a SAVE verification, and you do not believe the SAVE response is correct, the SAVE website, https://www.uscis.gov/save/for-benefit-applicants, has detailed information on how to correct or update your immigration record, make an appointment, or submit a written request to correct records.

[FR Doc. 2024-24229 Filed 10-17-24; 8:45 am]

BILLING CODE 9111-97-P